DEPARTMENT OF TRANSPORTATION

Surface Transportation Board

[Docket No. FD 35591]

Georgia Department of Transportation—Acquisition Exemption—CSX Transportation, Inc.

Georgia Department of Transportation (GDOT) ¹ has filed a verified notice of exemption under 49 CFR 1150.31 to acquire from CSX Transportation, Inc. (CSXT), a line of railroad known as the West End Segment of the L&N Belt between milepost 469.15 and milepost 472.27, a distance of 3.12 miles, in the City of Atlanta, Fulton County, Ga. On February 17, 2012, GDOT filed a supplement to its verified notice of exemption.

¹ GDOT is department of the State of Georgia organized under Title 32, Chapter 2, of the Official Code of Georgia.

GDOT states that CSXT transferred the subject line to GDOT in a quitclaim deed dated December 7, 2001 and that GDOT acquired the line to preserve it for future transportation uses. GDOT now seeks Board authorization for the transaction GDOT consummated 10 years ago without having sought the requisite regulatory authority at the time. GDOT states that its failure to submit any notice, petition for exemption, or application for acquisition at the time of transaction was an oversight on the part of the parties to the transaction.

GDOT certifies that its annual revenues as a result of this transaction will not result in GDOT's becoming a Class I or Class II rail carrier.

The exemption will become effective on March 18, 2012 (30 days after the verified notice was filed).²

² GDOT's verified notice of exemption is deemed to have been filed on February 17, 2012, the date GDOT filed its supplement.

If the verified notice contains false or misleading information, the exemption is void ab initio. Petitions to revoke the exemption under 49 U.S.C. 10502(d) may be filed at any time. The filing of a petition to revoke will not automatically stay the effectiveness of the exemption. Petitions to stay must be filed no later than March 9, 2012 (at least seven days before the exemption becomes effective).

An original and 10 copies of all pleadings, referring to Docket No. FD 35591, must be filed with the Surface Transportation Board, 395 E Street SW., Washington, DC 20423-0001. In addition, a copy of each pleading must be served on Charles A. Spitulnik, Kaplan Kirsch & Rockwell, 1001 Connecticut Avenue NW., Suite 800, Washington, DC 20036.

Board decisions and notices are available on our Web site at www.stb.dot.gov.

Decided: February 24, 2012.
By the Board.
Rachel D. Campbell,
Director, Office of Proceedings.
Jeffrey Herzig,
Clearance Clerk.

[FR Doc. 2012-4842 Filed 2-28-12; 8:45 am]

BILLING CODE 4915-01-P